DEPARTMENT OF COMMERCE

International Trade Administration

Export Trade Certificate of Review

AGENCY: International Trade Administration, Commerce.

ACTION: Notice of initiation of process to revoke Export Trade Certificate of Review No. 99-00004.

SUMMARY: On November 17, 1999, the Secretary of Commerce issued an Export Trade Certificate of Review to USXT, Inc. Because this certificate holder has failed to file an annual report as required by law the Department is initiating proceedings to revoke the certificate. This notice summarizes the notification letter sent to USXT, Inc.

FOR FURTHER INFORMATION CONTACT: Jeffrey Anspacher, Director, Office of Export Trading Company Affairs, International Trade Administration, (202) 482-5131. This is not a toll-free number.

SUPPLEMENTARY INFORMATION: Title III of the Export Trading Company Act of 1982 (“the Act”) (15 U.S.C. 4011-21) authorizes the Secretary of Commerce to issue Export Trade Certificates of Review. The regulations implementing Title III (“the Regulations”) are found at 15 CFR part 325. Pursuant to this authority, a Certificate of Review was issued on November 17, 1999 to USXT, Inc.

A certificate holder is required by law (Section 308 of the Act, 15 U.S.C. 4018) to submit to the Department of Commerce annual reports that update financial and other information relating to business activities covered by its certificate. The annual report is due within 45 days after the anniversary date of the issuance of the Certificate of Review (§§ 325.14(a) and (b) of the Regulations). Failure to submit a complete annual report may be the basis for revocation. (§§ 325.10(a)(3) and 325.14(c) of the Regulations).

The Department of Commerce sent to USXT, Inc., on November 7, 2002, a letter containing annual report questions with a reminder that its annual report was due on January 1, 2003. Additional reminder letters were sent on March 31, 2003 and April 11, 2003. The Department has received no written response to any of these letters.

On May 5, 2003, and in accordance with § 325.10(c)(1) of the Regulations, a letter was sent by certified mail to notify USXT, Inc. that the Department was formally initiating the process to revoke its certificate. The letter stated that this action is being taken because of the certificate holder's failure to file an annual report.

In accordance with § 325.10(c)(2) of the Regulations, the certificate holder has thirty days from the day after its receipt of the notification letter in which to respond. The certificate holder is deemed to have received this letter as of the date on which this notice is published in the Federal Register. For good cause shown, the Department of Commerce can, at its discretion, grant a thirty-day extension for a response (§ 325.10(c)(2) of the Regulations).

If the certificate holder decides to respond, it must specifically address the Department's statement in the notification letter that it has failed to file an annual report. It should state in detail why the facts, conduct, or circumstances described in the notification letter are not true, or if they are, why they do not warrant revoking the certificate. If the certificate holder does not respond within the specified period, it will be considered an admission of the statements contained in the notification letter (§ 325.10(c)(2) of the Regulations).

If the answer demonstrates that the material facts are in dispute, the Department of Commerce and the Department of Justice shall, upon request, meet informally with the certificate holder. Either Department may require the certificate holder to provide the documents or information that are necessary to support its contentions (§ 325.10(c)(3) of the Regulations).

The Department shall publish a notice in the Federal Register of the revocation or modification or a decision not to revoke or modify (§ 325.10(c)(4) of the Regulations). If there is a determination to revoke a certificate, any person aggrieved by such final decision may appeal the decision by filing an action in an appropriate U.S. district court within 30 days from the date on which the Department's final determination is published in the Federal Register (§§ 325.10(c)(4) and 325.11 of the Regulations).

Dated: July 11, 2003.
Jeffrey Anspacher,
Director, Office of Export Trading Company Affairs.

[FR Doc. 03-18062 Filed 7-16-03; 8:45 am]

BILLING CODE 3510-DR-P